DEPARTMENT OF ENERGY

Federal Energy Regulatory Commission

[Docket No. EL13-88-000]

Northern Indiana Public Service Company v. Midcontinent Independent System Operator, Inc. and PJM Interconnection, LLC; Supplemental Notice of Technical Conference

As announced in the notice issued on May 5, 2015, the Federal Energy Regulatory Commission will hold a technical conference on June 15, 2015 from 9:00 a.m. to 4:00 p.m. to explore issues raised in the complaint filed by Northern Indiana Public Service Company (NIPSCO) against Midcontinent Independent System Operator, Inc. (MISO) and PJM Interconnection, L.L.C. (PJM) related to the MISO-PJM Joint Operating Agreement (JOA) and the MISO-PJM seam. The conference will be held at the Commission's headquarters at 888 First Street NE., Washington, DC 20426 in the Commission Meeting Room. An updated agenda identifying panelists for this conference is attached.

The technical conference will not be transcribed. However, there will be a free webcast of the conference. The webcast will allow persons to listen to the technical conference, but not participate. Anyone with internet access who wants to listen to the conference can do so by navigating to the Calendar of Events at www.ferc.gov and locating the technical conference in the Calendar. The technical conference will contain a link to its webcast. The Capitol Connection provides technical support for the webcast and offers the option of listening to the meeting via phone-bridge for a fee. If you have any questions, visit www.CapitolConnection.org or call 703-993-3100.¹

¹ The webcast will be available on the Calendar of Events on the Commission's Web site www.ferc.gov for three months after the conference.

While the purpose of this conference is to discuss the matter pending before the Commission in Docket No. EL13-88 and is not for the purpose of discussing other specific cases, we note that the discussions at the conference may address matters at issue in the following Commission proceedings that are either pending or within their rehearing period:

• PJM Interconnection, L.L.C | Docket No. ER13-1944
• Midcontinent Independent System Operator, Inc | Docket No. ER13-1943
• PJM Interconnection, L.L.C | Docket No. ER13-1924
• Midcontinent Independent System Operator, Inc | Docket No. ER13-1945
• Entergy Services, Inc | Docket No. ER13-1955
• Cleco Power LLC | Docket No. ER13-1956
• Southwest Power Pool, Inc | Docket No. ER14-1174
• Midcontinent Independent System Operator, Inc | Docket No. ER14-1736
• Midcontinent Independent System Operator, Inc. | Docket No. ER14-2445
• Southwest Power Pool, Inc | Docket No. ER13-1864
• Southwest Power Pool, Inc. v. Midcontinent Independent System Operator, Inc | Docket No. EL14-21
• Midcontinent Independent System Operator, Inc. v. Southwest Power Pool, Inc | Docket No. EL14-30
• Midwest Independent Transmission System Operator, Inc | Docket No. EL11-34
• Midwest Independent Transmission System Operator, Inc | Docket No. ER11-1844

Advance registration is strongly encouraged for all attendees. If you have not already done so, those who plan to attend may register in advance at the following Web page: https://www.ferc.gov/whats-new/registration/06-15-15-form.asp. Attendees should allow time to pass through building security procedures before the 9:00 a.m. (Eastern Time) start time of the technical conference. In addition, information on this event will be posted on the Calendar of Events on the Commission's Web site, www.ferc.gov, prior to the event.

Commission conferences are accessible under section 508 of the Rehabilitation Act of 1973. For accessibility accommodations please send an email to accessibility@ferc.gov or call toll free 1-866-208-3372 (voice) or 202-502-8659 (TTY); or send a fax to 202-208-2106 with the required accommodations.

Following the technical conference, the Commission will consider post-technical conference comments submitted on or before July 15, 2015. Reply comments are due on or before August 5, 2015. The written comments will be included in the formal record of the proceeding, which, together with the record developed to date, will form the basis for further Commission action.

For more information about this technical conference, please contact Lina Naik, 202-502-8882, lina.naik@ferc.gov, regarding legal issues; or Jason Strong, 202-502-6124, jason.strong@ferc.gov, and Ben Foster, 202-502-6149, ben.foster@ferc.gov, regarding technical issues; or Sarah McKinley, 202-502-8368, sarah.mckinley@ferc.gov, regarding logistical issues.

Dated: June 2, 2015.
Kimberly D. Bose,
Secretary.

[FR Doc. 2015-13899 Filed 6-5-15; 8:45 am]

BILLING CODE 6717-01-P